DEPARTMENT OF ENERGY

Federal Energy Regulatory Commission

Combined Notice of Filings #2

Take notice that the Commission has received the following Natural Gas Pipeline Rate and Refund Report filings:

Filings Instituting Proceedings

Docket Numbers: RP22-257-000.

Applicants: Leaf River Energy Center LLC.

Description: Compliance filing: Leaf River Order No. 587-Z Compliance Filing 11-11-21 to be effective 6/1/2022.

Filed Date: 11/12/21.

Accession Number: 20211112-5012.

Comment Date: 5 p.m. ET 11/24/21.

Docket Numbers: RP22-258-000.

Applicants: Spire Storage West LLC.

Description: Compliance filing: Spire Storage West LLC Order No. 587-Z Compliance Filing to be effective 6/1/2022.

Filed Date: 11/12/21.

Accession Number: 20211112-5015.

Comment Date: 5 p.m. ET 11/24/21.

Docket Numbers: RP22-259-000.

Applicants: Adelphia Gateway, LLC.

Description: Compliance filing: Adelphia Order No. 587-Z Compliance Filing 11-12-21 to be effective 6/1/2022.

Filed Date: 11/12/21.

Accession Number: 20211112-5016.

Comment Date: 5 p.m. ET 11/24/21.

Docket Numbers: RP22-260-000.

Applicants: Golden Triangle Storage, Inc.

Description: Compliance filing: Proposed Revisions to FERC Gas Tariff to Comply With Order No. 587-Z to be effective 6/1/2022.

Filed Date: 11/12/21.

Accession Number: 20211112-5021.

Comment Date: 5 p.m. ET 11/24/21.

Docket Numbers: RP22-261-000.

Applicants: Kinder Morgan Louisiana Pipeline LLC.

Description: Compliance filing: V2 KMLP NAESB 3.2 to be effective 6/1/2022.

Filed Date: 11/12/21.

Accession Number: 20211112-5022.

Comment Date: 5 p.m. ET 11/24/21.

Docket Numbers: RP22-262-000.

Applicants: Columbia Gulf Transmission, LLC.

Description: Compliance filing: Compliance to RM96-1-042—Order No. 587-Z to be effective 6/1/2022.

Filed Date: 11/12/21.

Accession Number: 20211112-5023.

Comment Date: 5 p.m. ET 11/24/21.

Docket Numbers: RP22-263-000.

Applicants: Cheyenne Connector, LLC.

Description: Compliance filing: CC 2021-11-12 NAESB 3.2 Filing to be effective 6/1/2022.

Filed Date: 11/12/21.

Accession Number: 20211112-5026.

Comment Date: 5 p.m. ET 11/24/21.

Docket Numbers: RP22-264-000.

Applicants: Portland General Electric Company.

Description: Compliance filing: NAESB 3.2 Standards Compliance Filing to be effective 6/1/2022.

Filed Date: 11/12/21.

Accession Number: 20211112-5027.

Comment Date: 5 p.m. ET 11/24/21.

Docket Numbers: RP22-265-000.

Applicants: Rockies Express Pipeline LLC.

Description: Compliance filing: REX 2021-11-12 NAESB 3.2 Compliance Filing to be effective 6/1/2022.

Filed Date: 11/12/21.

Accession Number: 20211112-5028.

Comment Date: 5 p.m. ET 11/24/21.

Docket Numbers: RP22-266-000.

Applicants: Tallgrass Interstate Gas Transmission, LLC.

Description: Compliance filing: TIGT 2021-11-12 NAESB 3.2 Filing to be effective 6/1/2022.

Filed Date: 11/12/21.

Accession Number: 20211112-5029.

Comment Date: 5 p.m. ET 11/24/21.

Docket Numbers: RP22-267-000.

Applicants: Trailblazer Pipeline Company LLC.

Description: Compliance filing: TPC 2021-11-12 NAESB Filing to be effective 6/1/2022.

Filed Date: 11/12/21.

Accession Number: 20211112-5030.

Comment Date: 5 p.m. ET 11/24/21.

Docket Numbers: RP22-268-000.

Applicants: ANR Pipeline Company.

Description: Compliance filing: NAESB 3.2—Compliance to RM96-1-042—Order No. 587-Z to be effective 6/1/2022.

Filed Date: 11/12/21.

Accession Number: 20211112-5032.

Comment Date: 5 p.m. ET 11/24/21.

Docket Numbers: RP22-269-000.

Applicants: Vector Pipeline L.P.

Description: Compliance filing: NAESB 3.2 Compliance Filing to be effective 6/1/2022.

Filed Date: 11/12/21.

Accession Number: 20211112-5033.

Comment Date: 5 p.m. ET 11/24/21.

Docket Numbers: RP22-270-000.

Applicants: Kinder Morgan Illinois Pipeline LLC.

Description: Compliance filing: V2 NAESB 3.2 to be effective 6/1/2022.

Filed Date: 11/12/21.

Accession Number: 20211112-5034.

Comment Date: 5 p.m. ET 11/24/21.

Docket Numbers: RP22-271-000.

Applicants: North Baja Pipeline, LLC.

Description: Compliance filing: NAESB 3.2—Compliance to RM96-1-042—Order No. 587-Z to be effective 6/1/2022.

Filed Date: 11/12/21.

Accession Number: 20211112-5036.

Comment Date: 5 p.m. ET 11/24/21.

Docket Numbers: RP22-272-000.

Applicants: Natural Gas Pipeline Company of America LLC.

Description: § 4(d) Rate Filing: Compliance Filing Pursuant to Order 587-Z to be effective 6/1/2022.

Filed Date: 11/12/21.

Accession Number: 20211112-5039.

Comment Date: 5 p.m. ET 11/24/21.

Docket Numbers: RP22-273-000.

Applicants: Horizon Pipeline Company, L.L.C.

Description: § 4(d) Rate Filing: Compliance Filing Pursuant to Order 587-Z to be effective 6/1/2022.

Filed Date: 11/12/21.

Accession Number: 20211112-5040.

Comment Date: 5 p.m. ET 11/24/21.

Docket Numbers: RP22-274-000.

Applicants: Great Lakes Gas Transmission Limited Partnership.

Description: Compliance filing: NAESB 3.2—Compliance to RM96-1-042—Order No. 587-Z to be effective 6/1/2022.

Filed Date: 11/12/21.

Accession Number: 20211112-5043.

Comment Date: 5 p.m. ET 11/24/21.

Docket Numbers: RP22-275-000.

Applicants: Gas Transmission Northwest LLC.

Description: Compliance filing: NAESB 3.2—Compliance to RM96-1-042—Order No. 587-Z to be effective 6/1/2022.

Filed Date: 11/12/21.

Accession Number: 20211112-5045.

Comment Date: 5 p.m. ET 11/24/21.

Docket Numbers: RP22-276-000.

Applicants: Hardy Storage Company, LLC.

Description: Compliance filing: NAESB 3.2—Compliance to RM96-1-042—Order No. 587-Z to be effective 6/1/2022.

Filed Date: 11/12/21.

Accession Number: 20211112-5046.

Comment Date: 5 p.m. ET 11/24/21.

Docket Numbers: RP22-277-000.

Applicants: Gulfstream Natural Gas System, L.L.C.

Description: Compliance filing: Gulfstream Order 587-Z (Docket RM96-1-042) Compliance Filing to be effective 6/1/2022.

Filed Date: 11/12/21.

Accession Number: 20211112-5067.

Comment Date: 5 p.m. ET 11/24/21.

Docket Numbers: RP22-278-000.

Applicants: Gulf South Pipeline Company, LLC.

Description: Compliance filing: NAESB Order 587-Z Compliance Filing to be effective 6/1/2022.

Filed Date: 11/12/21.

Accession Number: 20211112-5069.

Comment Date: 5 p.m. ET 11/24/21.

Docket Numbers: RP22-279-000.

Applicants: Texas Gas Transmission, LLC.

Description: Compliance filing: NAESB Order 587-Z Compliance Filing to be effective 6/1/2022.

Filed Date: 11/12/21.

Accession Number: 20211112-5070.

Comment Date: 5 p.m. ET 11/24/21.

Docket Numbers: RP22-280-000.

Applicants: Boardwalk Storage Company, LLC.

Description: Compliance filing: NAESB Order 587-Z Compliance Filing to be effective 6/1/2022.

Filed Date: 11/12/21.

Accession Number: 20211112-5071.

Comment Date: 5 p.m. ET 11/24/21.

Docket Numbers: RP22-281-000.

Applicants: High Island Offshore System, L.L.C.

Description: Compliance filing: NAESB v. 5.0 Compliance to be effective 6/1/2022.

Filed Date: 11/12/21.

Accession Number: 20211112-5078.

Comment Date: 5 p.m. ET 11/24/21.

Docket Numbers: RP22-282-000.

Applicants: MIGC LLC.

Description: Compliance filing: NAESB V3.2 (Order No. 587-Z) Compliance to be effective 6/1/2022.

Filed Date: 11/12/21.

Accession Number: 20211112-5089.

Comment Date: 5 p.m. ET 11/24/21.

Docket Numbers: RP22-283-000.

Applicants: Iroquois Gas Transmission System, L.P.

Description: Compliance filing: 11.12.21 FERC Order 587-Z (NAESB) v3.2 Compliance Filing to be effective 6/1/2022.

Filed Date: 11/12/21.

Accession Number: 20211112-5095.

Comment Date: 5 p.m. ET 11/24/21.

Docket Numbers: RP22-284-000.

Applicants: DBM Pipeline, LLC.

Description: Compliance filing: Order No. 587-Z Compliance to be effective 6/1/2022.

Filed Date: 11/12/21.

Accession Number: 20211112-5098.

Comment Date: 5 p.m. ET 11/24/21.

Docket Numbers: RP22-285-000.

Applicants: ETC Tiger Pipeline, LLC.

Description: Compliance filing: NAESB 3.2 Compliance to be effective 6/1/2022.

Filed Date: 11/12/21.

Accession Number: 20211112-5099.

Comment Date: 5 p.m. ET 11/24/21.

Docket Numbers: RP22-286-000.

Applicants: Fayetteville Express Pipeline LLC.

Description: Compliance filing: Fayetteville Express Pipeline LLC submits tariff filing per 154.203: NAESB 3.2 Compliance to be effective 6/1/2022.

Filed Date: 11/12/21.

Accession Number: 20211112-5103.

Comment Date: 5 p.m. ET 11/24/21.

Docket Numbers: RP22-287-000.

Applicants: Transwestern Pipeline Company, LLC.

Description: Compliance filing: NAESB 3.2 Compliance to be effective 6/1/2022.

Filed Date: 11/12/21.

Accession Number: 20211112-5107.

Comment Date: 5 p.m. ET 11/24/21.

Docket Numbers: RP22-288-000.

Applicants: Southwest Gas Storage Company.

Description: Compliance filing: NAESB 3.2 Compliance to be effective 6/1/2022.

Filed Date: 11/12/21.

Accession Number: 20211112-5108.

Comment Date: 5 p.m. ET 11/24/21.

Docket Numbers: RP22-289-000.

Applicants: Gulf States Transmission LLC.

Description: Compliance filing: NAESB 3.2 Compliance to be effective 6/1/2022.

Filed Date: 11/12/21.

Accession Number: 20211112-5110.

Comment Date: 5 p.m. ET 11/24/21.

Docket Numbers: RP22-290-000.

Applicants: Florida Gas Transmission Company, LLC.

Description: Compliance filing: NAESB 3.2 Compliance to be effective 6/1/2022.

Filed Date: 11/12/21.

Accession Number: 20211112-5114.

Comment Date: 5 p.m. ET 11/24/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2021.
Debbie-Anne A. Reese,
Deputy Secretary.

[FR Doc. 2021-25253 Filed 11-18-21; 8:45 am]

BILLING CODE 6717-01-P